DEPARTMENT OF HEALTH AND HUMAN SERVICES

Administration for Children and Families

Administration on Developmental Disabilities

AGENCY: Administration on Developmental Disabilities, Administration for Children and Families.

ACTION: Single-Source Non-Competitive Continuation Award.

CFDA Number: 93.632.

Legislative Authority: Public Law (Pub. L.) 106-402, Developmental Disabilities Assistance and Bill of Rights Act of 2000.

Amount of Award: $60,000 for one year.

Project Period: September 30, 2006—September 29, 2007.

This notice announces the award of a single-source non-competition continuation award to the Human Development Center, Louisiana State University to supplement grant award 90DD0583 to fund a project that would address the needs of individuals with developmental disabilities affected by Hurricane Katrina.

This proposed project falls under the community services core function of the University Centers for Excellence in Developmental Disabilities, Research and Services (UCEDD) program. The project proposes to address the needs of an underserved and unserved population in Louisiana: people with developmental disabilities affected by Hurricane Katrina.

The proposed project will have numerous benefits on the lives of individuals with developmental disabilities. Before Hurricane Katrina, many individual with developmental disabilities in Louisiana lived in institutions where they were directly cared for by personal care attendants. Following the Hurricane, Institutions are being closed and the former residents will be living in the community. As a result these people will now be responsible for their personal care, which will be a completely new task for them. Projects are needed to develop training materials that will help these individuals learn to live in the community and care for themselves.

The proposed project will conduct activities that will inform the sound design of future physical activity and healthy eating interventions for individuals with developmental disabilities receiving supported independent living services in the Greater New Orleans area. The insights gained from the proposed project will be critical to the development of high-quality, tailored health promotion programs to increase physical activity and health eating among persons with ID in order to enhance their health, well-being, and independent participation in society. It is anticipated that the project results will inform future activities to promote physical activity and health eating among individuals with developmental disabilities.

There would be detrimental consequences without this funding. Without funding, the project would not be able to conduct the necessary activities that will enhance the ability of individuals with developmental disabilities to achieve full independence, productivity, integration, and inclusion in society. Health promotion interventions to increase physical activity and promote health eating have the potential to enhance function, prevent chronic conditions, and increase quality of life in person with developmental disabilities.

FOR FURTHER INFORMATION CONTACT: Jennifer Johnson, Administration on Developmental Disabilities, Administration for Children and Families, U.S. Department of Health and Human Services, 370 L'Enfant Promenade, SW., MAIL STOP: Humphrey Building, 405D,Washington, DC 20447. Telephone: 202-690-5982.

Dated: September 27, 2006.
Patricia A. Morrissey,
Commissioner, Administration on Developmental Disabilities.

[FR Doc. E6-16356 Filed 10-3-06; 8:45 am]

BILLING CODE 4184-01-P